DEPARTMENT OF THE INTERIOR

Bureau of Land Management

[AZ-930-1430-ET; AZA 8736 et al.]

Expiration of Forest Service Withdrawals and Opening of Lands; Arizona

AGENCY: Bureau of Land Management, Interior.

ACTION: Notice.

SUMMARY: Six public land orders, which withdrew 2,644 total acres of National Forest System lands from mining, have expired. This action will open the lands to mining.

EFFECTIVE DATE: March 10, 2004.

FOR FURTHER INFORMATION CONTACT: Cliff Yardley, BLM Arizona State Office, 222 North Central Avenue, Phoenix, Arizona 85004-2203, 602-417-9437.

SUPPLEMENTARY INFORMATION: 1. The following public land orders (PLOs), which withdrew National Forest System lands for the areas listed below, have expired:

PLO | Serial No. | Area Name | Expired | Acres
5740 | AZA 8736 | Dragoon Spring Stage Station | 7/29/2000 | 10
5749 | AZA 8684 | Goudy Canyon Research Area | 8/27/2000 | 560
5751 | AZA 9291 | Elden Environmental Study Area | 8/27/2000 | 778
5801 | AZA 8985 | Pole Bridge Can. Research Area | 1/6/2001 | 461
5835 | AZA 9275 | Elgin Research Natural Area | 1/22/2001 | 355
6217 | AZA 9134 | Bush Highway Research Area | 3/18/2002 | 480

2. Copies of the public land orders for the expired withdrawals, showing the lands involved, are available at the BLM Arizona State Office (address above).

3. At 10 a.m. on April 9, 2004, the lands withdrawn by the public land orders listed above will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights because Congress has provided for such determinations in local courts.

Dated: January 21, 2004.
Michael A. Taylor,
Deputy State Director, Resources Division.

[FR Doc. 04-5354 Filed 3-9-04; 8:45 am]

BILLING CODE 3410-11-P